DEPARTMENT OF HOUSING AND URBAN DEVELOPMENT

24 CFR Part 203

[Docket No. FR-5087-N-02]

RIN 2502-AI52

Standards for Mortgagor's Investment in Mortgaged Property: Extension of Public Comment Period

AGENCY: Office of the Assistant Secretary for Housing'Federal Housing Commissioner, HUD.

ACTION: Notice: Extension of Public Comment Period.

SUMMARY: This notice extends the public comment period for an additional 30-day period for HUD's proposed rule on Standards for Mortgagor's Investment in Mortgaged Property, published on May 11, 2007.

DATES: The comment period for the proposed rule published a 72 FR 27048, May 11, 2007, is extended until August 10, 2007.

ADDRESSES: Interested persons are invited to submit comments regarding this rule to the Regulations Division, Office of General Counsel, Department of Housing and Urban Development, 451 Seventh Street, SW., Room 10276, Washington, DC 20410-0500. Communications should refer to the above docket number and title.

Comment by Mail. Please note that due to security measures at all federal agencies, submission of comments by mail often results in delayed delivery.

Electronic Submission of Comments. HUD now accepts comments electronically. Interested persons may now submit comments electronically through the Federal eRulemaking Portal at www.regulations.gov. HUD strongly encourages commenters to submit comments electronically. Electronic submission of comments allows the commenter maximum time to prepare and submit a comment, ensures timely receipt by HUD, and enables HUD to make them immediately available for public viewing. Commenters should follow the instructions provided at www.regulations.gov to submit comments electronically.

No Facsimile Comments. Facsimile (Fax) comments are not acceptable. In all cases, communications must refer to the docket number and title.

Public Inspection of Public Comments. All comments and communications submitted will be available, without revision, for inspection and downloading at www.regulations.gov. Comments are also available for public inspection and copying between 8 a.m. and 5 p.m. weekdays at the Office of Regulations. Due to security measures at the HUD Headquarters building, please schedule an appointment to review the comments by calling the Regulations Division at (202) 708-3055 (this is not a toll-free number).

FOR FURTHER INFORMATION CONTACT: James Beavers, Acting Director, Office of Single Family Program Development, Department of Housing and Urban Development, 451 Seventh Street, SW., Washington, DC 20410; telephone (202) 708-2121 (this is not a toll-free number). Persons with hearing or speech impairments may access this number through TTY by calling the toll-free Federal Information Relay Service at (800) 877-8339.

SUPPLEMENTARY INFORMATION:

Background

HUD published a proposed rule entitled “Standards for Mortgagor's Investment in Mortgaged Property” on May 11, 2007 (72 FR 27048). Through this rule, HUD proposes to codify in regulation specific standards governing a mortgagor's investment in property for which the mortgage is insured by the Federal Housing Administration (FHA). Specifically, this proposed rule would codify HUD's longstanding practice, authorized by statute, of allowing a mortgagor's investment to be derived from gifts by family members and certain organizations.

The standards would address a situation in which the mortgagor's investment is derived from a gift, loan, or other payment that is provided by any donor, including an individual or an organization, and would also specify prohibited sources for a mortgagor's investment. The proposed rule would establish that a prohibited source of downpayment assistance is a payment that consists, in whole or in part, of funds provided by any of the following parties before, during, or after closing of the property sale: (1) The seller, or any other person or entity that financially benefits from the transaction; or (2) any third party or entity that is reimbursed directly or indirectly by any of the parties listed in clause (1).

Extension of Public Comment Period

HUD's May 11, 2007, proposed rule provides for the public comment period to end on July 10, 2007. Due to significant interest in this rule, HUD is extending the public comment period, for an additional 30-day period, to August 10, 2007.

Dated: July 5, 2007.
Brian D. Montgomery,
Assistant Secretary for Housing—Federal Housing Commissioner.

[FR Doc. 07-3357 Filed 7-6-07; 11:24 am]

BILLING CODE 4210-67-P